INTERNATIONAL TRADE COMMISSION

[Investigation Nos. 701-TA-388-391 and 731-TA-817-821 (Second Review)]

Cut-To-Length Carbon-Quality Steel Plate From India, Indonesia, Italy, Japan, and Korea

Determination

On the basis of the record ¹ developed in the subject five-year review, the United States International Trade Commission (Commission) determines, pursuant to section 751(c) of the Tariff Act of 1930 (19 U.S.C. 1675(c)), that revocation of the countervailing duty orders and antidumping duty orders on cut-to-length carbon-quality steel plate from India, Indonesia, and Korea would be likely to lead to continuation or recurrence of material injury to an industry in the United States within a reasonably foreseeable time. The Commission also determines that revocation of the countervailing duty order and antidumping duty order on cut-to-length carbon-quality steel plate from Italy would not be likely to lead to continuation or recurrence of material injury to an industry in the United States within a reasonably foreseeable time.² The Commission further determines that revocation of the antidumping duty order on cut-to-length carbon-quality steel plate from Japan would not be likely to lead to continuation or recurrence of material injury to an industry in the United States within a reasonably foreseeable time.³

¹ The record is defined in sec. 207.2(f) of the Commission's Rules of Practice and Procedure (19 CFR 207.2(f)).

² Vice Chairman Williamson and Commissioner Lane dissenting with respect to Italy.

³ Commissioner Lane and Commissioner Pinkert dissenting with respect to Japan.

Background

The Commission instituted these reviews on November 1, 2010 (75 FR 67108) and determined on February 4, 2011 that it would conduct full reviews (76 FR 8772, February 15, 2011). Notice of the scheduling of the Commission's reviews and of a public hearing to be held in connection therewith was given by posting copies of the notice in the Office of the Secretary, U.S. International Trade Commission, Washington, DC, and by publishing the notice in the Federal Register on April 18, 2011 (76 FR 22725, revised scheduling notice 76 FR 56797, September 14, 2011). The hearing was held in Washington, DC, on October 19, 2011, and all persons who requested the opportunity were permitted to appear in person or by counsel.

The Commission transmitted its determinations in these reviews to the Secretary of Commerce on December 20, 2011. The views of the Commission are contained in USITC Publication 4296 (December 2011), entitled Cut-to-Length Carbon-Quality Steel Plate from India, Indonesia, Italy, Japan, and Korea: Investigation Nos. 701-TA-388-391 and 731-TA-817-821 (Second Review).

By order of the Commission.
Issued: December 20, 2011.
James R. Holbein,
Secretary to the Commission.

[FR Doc. 2011-33082 Filed 12-23-11; 8:45 am]

BILLING CODE 7020-02-P